DEPARTMENT OF COMMERCE

Bureau of Industry and Security

15 CFR Part 774

[Docket No. 0907271167-0246-02]

RIN 0694-AE69

Export Administration Regulations: Technical Corrections

AGENCY: Bureau of Industry and Security, Commerce.

ACTION: Final rule; correcting amendments.

SUMMARY: This rule corrects two typographical errors that appeared in a rule published on June 4, 2010. One error is in the License Requirements section of Export Control Classification Number 2B001 and the other is in the Technical Note on Adjusted Peak Performance (“APP”) found at the end of Category 4 on the Commerce Control List.

DATES: This rule is effective June 16, 2010.

FOR FURTHER INFORMATION CONTACT: William H. Arvin, Regulatory Policy Division, e-mail warvin@bis.doc.gov, telephone (202) 482-2440.

SUPPLEMENTARY INFORMATION:

Background

On June 4, 2010, the Bureau of Industry and Security published a final rule that, inter alia, clarified language regarding certain performance criteria of turning machines covered by Export Control Classification Number (ECCN) 2B001 and replaced a subscript with a superscript to properly express exponentiation in the definition of Adjusted Peak Performance in a technical note at the end of Category 4 on the Commerce Control List (75 FR 31678, June 4, 2010). That notice contained two typographical errors. The first described the national security control for ECCN 2B001 as NS Column 1 on the EAR Country Chart (15 CFR part 738, Supp. No. 1). The correct national security control for ECCN 2B001 is NS Column 2. The second did not enclose the abbreviation “APP” in double quotation marks. This rule corrects both errors.

Rulemaking Requirements

1. This rule is not a significant rule for purposes of Executive Order 12866.

2. Notwithstanding any other provision of law, no person is required to respond to, nor shall any person be subject to a penalty for failure to comply with a collection of information, subject to the requirements of the Paperwork Reduction Act, unless that collection of information displays a currently valid Office of Management and Budget Control Number. This rule involves a collection of information that has been approved by the OMB under control number 0694-0088, which carries a burden hour estimate of 58 minutes to prepare and submit form BIS-748. Miscellaneous and recordkeeping activities account for 12 minutes per submission. BIS believes that this rule will make no change to the number of submissions or to the burden imposed by this collection.

3. This rule does not contain policies with Federalism implications as that term is defined in Executive Order 13132.

4. BIS finds that there is good cause under 5 U.S.C. 553(b)(3)(B) to waive the provisions of the Administrative Procedure Act requiring prior notice and the opportunity for public comment because these revisions are administrative in nature and do not affect the rights and obligations of the public; therefore allowing prior notice and comment on these rules is unnecessary. In addition, the 30-day delay in effectiveness required by 5 U.S.C. 553(d) is not applicable here because this rule is not a substantive rule, but merely makes technical changes to the regulations. No other law requires that notice of proposed rulemaking and an opportunity for public comment be given for this rule; therefore, the analytical requirements of the Regulatory Flexibility Act (5 U.S.C. 601 et seq.) are not applicable.

List of Subjects in 15 CFR Part 774

Exports, Reporting and recordkeeping requirements.

Accordingly, the Export Administration Regulations (15 CFR parts 730-774) are amended as follows:

PART 774—[AMENDED]

1. The authority citation for part 774 continues to read as follows:

Authority: 50 U.S.C. app. 2401 et seq.; 50 U.S.C. 1701 et seq.; 10 U.S.C. 7420; 10 U.S.C. 7430(e); 22 U.S.C. 287c, 22 U.S.C. 3201 et seq., 22 U.S.C. 6004; 30 U.S.C. 185(s), 185(u); 42 U.S.C. 2139a; 42 U.S.C. 6212; 43 U.S.C. 1354; 46 U.S.C. app. 466c; 50 U.S.C. app. 5; 22 U.S.C. 7201 et seq.; 22 U.S.C. 7210; E.O. 13026, 61 FR 58767, 3 CFR, 1996 Comp., p. 228; E.O. 13222, 66 FR 44025, 3 CFR, 2001 Comp., p. 783; Notice of August 13, 2009 (74 FR 41,325 (August 14, 2009)).

2. In Supplement No. 1 to part 774:

a. In Category 2, Export Control Classification Number 2B001, revise the “Controls” paragraph of the “License Requirements” section.

b. In Category 4, the Technical Note on “Adjusted Peak Performance” (“APP”) that appears at the end of Category 4, revise the definition of “APP” that appears under the heading “Abbreviations Used in This Technical Note”.

Supplement No. 1 to Part 774—The Commerce Control List

* * * * *

2B001 Machine tools and any combination thereof, for removing (or cutting) metals, ceramics or “composites”, which, according to the manufacturer's technical specifications, can be equipped with electronic devices for “numerical control”; and specially designed components as follows (see List of Items Controlled).

License Requirements

Reason for Control: NS, NP, AT

Control(s) | Country Chart
NS applies to entire entry | NS Column 2
NP applies to 2B001.a, .b, .c, and .d, EXCEPT: (1) Turning machines under 2B001.a with a capacity no greater than 35 mm diameter; (2) bar machines (Swissturn), limited to machining only bar feed through, if maximum bar diameter is equal to or less than 42 mm and there is no capability of mounting chucks. (Machines may have drilling and/or milling capabilities for machining parts with diameters less than 42 mm); or (3) milling machines under 2B001.b.with x-axis travel greater than two meters and overall “positioning accuracy” on the x-axis more (worse) than 0.030 mm | NP Column 1
AT applies to entire entry | AT Column 1

* * * * *

Category 4—Computers

* * * * *

Technical Note on “Adjusted Peak Performance” (“APP”)

* * * * *

Abbreviations Used in This Technical Note

* * * * *

“APP” is expressed in Weighted TeraFLOPS (WT) in units of 10¹² adjusted floating point operations per second.

* * * * *

Bernard Kritzer,
Director, Office of Exporter Services.

[FR Doc. 2010-14432 Filed 6-15-10; 8:45 am]

BILLING CODE 3510-33-P